DEPARTMENT OF COMMERCE

National Oceanic and Atmospheric Administration

[I.D. 042400B]

Gulf of Mexico Fishery Management Council; Public Meeting

AGENCY: National Marine Fisheries Service (NMFS), National Oceanic and Atmospheric Administration (NOAA), Commerce.

ACTION: Notice of public meetings.

SUMMARY: The Gulf of Mexico Fishery Management Council will convene public meetings.

DATES: The meetings will be held May 15-19, 2000.

ADDRESSES: The meetings will be held at the Radisson Hotel New Orleans, 1500 Canal Street, New Orleans, Louisiana; telephone: 504-522-4500.

Council Address: Gulf of Mexico Fishery Management Council, 3018 U.S. Highway 301 North, Suite 1000, Tampa, Florida 33619.

FOR FURTHER INFORMATION CONTACT: Wayne E. Swingle, Executive Director, Gulf of Mexico Fishery Management Council; telephone: 813-228-2815.

SUPPLEMENTARY INFORMATION:

Monday, May 15, 2000

8 a.m-9 a.m.—Convene the Administrative Policy Committee to discuss an internal policy issue related to conflict of interest.

9 a.m.-10:30 a.m.—Convene the Habitat Protection Committee to hear a research proposal by the Gulf Aquaculture Consortium and a report on proposed gas pipeline routes across the Gulf of Mexico.

10:30 a.m.-11:30 a.m.—Convene the Stone Crab Management Committee to review and approve for public hearings the Draft Amendment 7/Regulatory Amendment and make recommendations for the full Council to review on Thursday morning.

1 p.m.-5:30 p.m.—Convene the Mackerel Management Committee to hear the Mackerel Stock Assessment Panel (SAP) report, the Socioeconomic Panel report, and recommendations of the Mackerel Advisory Panel (AP) and the Standing and Special Mackerel and Dolphin/Wahoo Scientific and Statistical Committee (SSC) regarding the Gulf group king mackerel total allowable catch (TAC) and proposed management options under the joint dolphin/wahoo fishery management plan. The Committee will develop recommendations for the full Council to review on Thursday morning.

Tuesday, May 16, 2000

8 a.m.-10:30 a.m.—Convene the Joint Reef Fish and Mackerel Management Committees to review the revised Options Paper/Amendment for a Charter Vessel Permit Moratorium. The Committees will make recommendations for full Council review on Thursday morning.

10:30 a.m.-12:00 noon—Convene the Red Drum Management Committee to hear the Red Drum SAP report and AP and SSC recommendations regarding stock status.

1:30 p.m.-5 p.m.—Convene the Reef Fish Management Committee to review a draft license limitation options paper for the longline sector, hear a NMFS enforcement report on longline vessels, review the revised options paper for Amendment 18, discuss the legal ramifications of requiring imported fish to be consistent with federal size limits, and hear a report of the U.S. Department of Agriculture's organic fish designation. The Committee's recommendations on these issues will be considered by the Council on Thursday afternoon.

Wednesday, May 17, 2000

8 a.m.-8:30 a.m.—Convene the Joint Marine Reserves and Reef Fish Management Committees to approve the Public Hearing Draft Amendment for potentially establishing the Tortugas 2000 marine reserves.

8:30 a.m.-10 a.m.—Convene the Shrimp Management Committee to hear a report on the distribution of Southeast Area Monitoring and Assessment Program real-time data on shrimp catches, discuss whether an interim rule should be implemented to require shrimp vessel and/or operator permits, and hear a report by Texas Parks and Wildlife Department on the condition of the shrimp stocks.

10 a.m.-11:30 a.m.—Convene the Deep Water Crab Management Committee to discuss a possible gear conflict between golden crab and royal red shrimp fishermen, a trap enforcement issue, and a report on the contamination of crab tissue by heavy metals.

11:30 a.m.-12:30 p.m.—Convene the Migratory Species Committee to hear a report regarding the proposed bluefin tuna harvest rules for the angling category.

2 p.m.-The Council will convene.

2:15 p.m.-5 p.m.—Receive public testimony on the Gulf group king mackerel (TAC) and other framework management measures.

Thursday, May 18, 2000

8:30 a.m.-9:30 a.m.—Receive a report of the Mackerel Management Committee.

9:30 a.m.-10:30 a.m.—Receive a report of the Joint Reef Fish and Mackerel Management Committees.

10:30 a.m.-11 a.m.—Receive a report of the Red Drum Management Committee.

11 a.m.-11:30 a.m.—Receive a report of the Habitat Protection Committee.

11:30 a.m.-11:45 a.m.—Receive a report of the Administrative Policy Committee.

11:45-12:00 noon—Receive a report of the Stone Crab Management Committee.

1:30 p.m.-3 p.m.—Receive a report of the Reef Fish Management Committee.

3 p.m.-3:30 p.m.—Receive a report of the Joint Marine Reserves and Reef Fish Management Committee.

3:30 p.m.-3:45 p.m.—Receive a report of the Shrimp Management Committee.

3:45 p.m.-4 p.m.—Receive a report of the Deep Water Crab Management Committee.

4 p.m.-4:15 p.m.—Receive a report of the Migratory Species Management Committee.

4:15 p.m.-4:30 p.m.—Receive a report of the Gulf and South Atlantic Fishery Foundation, Inc. Effort Workshop.

4:30 p.m.-4:45 p.m.—Receive a report of the NMFS Workshop on Report to Congress.

4:45 p.m.-5 p.m.—Receive the NMFS Regional Administrator's Report.

5 p.m.-5:20 p.m.—Receive Director's Reports.

Friday, May 19, 2000

8:30 a.m.-11:45 a.m.—Receive a presentation on the NMFS Fishery Stock Assessment Model.

11:45 a.m.-12:00 noon—Other Business.

Although non-emergency issues not contained in this agenda may come before the Council for discussion, in accordance with the Magnuson-Stevens Fishery Conservation and Management Act, these issues may not be the subject of formal Council action during these meetings. Council action will be restricted to those issues specifically listed in this notice and any issues arising after publication of this notice that require emergency action under section 305(c) of the Magnuson-Stevens Fishery Conservation and Management Act, provided the public has been notified of the Council's intent to take final actions to address such emergencies.

Special Accommodations

These meetings are physically accessible to people with disabilities. Requests for sign language interpretation or other auxiliary aids should be directed to Anne Alford at the Council (see ADDRESSES) at least 5 days prior to the meeting date.

Dated: April 24, 2000.
Richard W. Surdi,
Acting Director, Office of Sustainable Fisheries, National Marine Fisheries Service.

[FR Doc. 00-10516 Filed 4-26-00; 8:45 am]

BILLING CODE 3510-22-F